DEPARTMENT OF HEALTH AND HUMAN SERVICES

Centers for Disease Control and Prevention

Solicitation of Nominations for Appointment to CDC's Advisory Committee to the Director (ACD) Laboratory Workgroup (LW)

ACTION: Notice.

SUMMARY: The Centers for Disease Control and Prevention (CDC), within the Department of Health and Human Services (HHS), is seeking nominations for membership on the Advisory Committee to the Director (ACD) Laboratory Workgroup (LW). The LW will consist of up to 15 members who are experts in the fields of public health laboratory science and practice, laboratory quality management, diagnostic regulations, and laboratory testing and research.

DATES: Nominations for membership on the LW workgroup must be received no later than May 16, 2022. Late nominations will not be considered for membership.

ADDRESSES: All nominations (cover letters and curriculum vitae) should be emailed to LWACD@cdc.gov with the subject line: “Nomination for CDC ACD LW Workgroup.”

FOR FURTHER INFORMATION CONTACT: Lauren Hoffmann, MA, Office of the Chief of Staff, Centers for Disease Control and Prevention, 1600 Clifton Road NE, Mailstop H21-10, Atlanta, Georgia 30329-4027; Telephone: (404) 639-7000; Email: LWACD@cdc.gov.

SUPPLEMENTARY INFORMATION:

Background: The purpose of the ACD, CDC is to advise the Secretary, HHS, and the Director, CDC, on policy and broad strategies that will enable CDC to fulfill its mission of protecting health through health promotion, prevention, and preparedness. The ACD, CDC consists of up to 15 non-federal members, including the Chair, knowledgeable in areas pertinent to the CDC mission, such as health policy, public health, global health, preparedness, preventive medicine, the faith-based and community-based sector, and allied fields.

Purpose: The establishment and formation of the LW is to provide input to the ACD, CDC on agency-wide activities related to laboratory quality management, continuous laboratory quality improvement, and laboratory diagnostic testing to support public health programs and investigations. The LW membership will consist of up to 15 members. It will be co-chaired by two current ACD, CDC Special Government Employees. The LW co-chairs will present their findings, observations, and work products at one or more ACD, CDC meetings for discussion, deliberation, and decisions (final recommendations to CDC).

Nomination Criteria: LW members will serve terms ranging from six months to one year and be required to attend LW meetings approximately 1-2 times per month (virtually or in person), and contribute time between meetings for research, consultation, discussion, and writing assignments.

Nominations are being sought for individuals who have the expertise and qualifications necessary to contribute to the accomplishments of the committee's/workgroup's objectives. Nominees will be selected based on expertise in the fields of public health laboratory science and practice, laboratory quality management, diagnostic regulations, and clinical laboratory testing and research. To ensure a diverse workgroup composition, nominees with front line and field experience at the local, state, tribal, and territorial levels are encouraged to apply. Federal employees will not be considered for membership. Selection of members is based on candidates' qualifications to contribute to the accomplishment of the LW's objectives.

HHS policy stipulates that membership be balanced in terms of points of view represented and the workgroup's function. Appointments shall be made without discrimination based on age, race, ethnicity, gender, sexual orientation, gender identity, HIV status, disability, and cultural, religious, or socioeconomic status. Nominees must be U.S. citizens and cannot be full-time employees of the U.S. Government. Current participation on federal workgroups or prior experience serving on a federal advisory committee does not disqualify a candidate; however, HHS policy is to avoid excessive individual service on advisory committees and multiple committee memberships.

Interested candidates should submit the following items:

A one-half to one-page cover letter that includes your understanding of, and commitment to, the time and work necessary; one to two sentences on your background and experience; and one to two sentences on the skills/perspective you would bring to the LW.

Current curriculum vitae which highlights the experience and work history being sought relevant to the criteria set forth above, including complete contact information (telephone numbers, mailing address, email address).

Nominations may be submitted by the candidate him or herself, or by the person/organization recommending the candidate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-09537 Filed 5-3-22; 8:45 am]

BILLING CODE 4163-18-P